DEPARTMENT OF THE INTERIOR

National Park Service

Notice of Inventory Completion for Native American Human Remains and Associated Funerary Objects in the Possession of the Phoebe A. Hearst Museum of Anthropology, University of California, Berkeley, Berkeley, CA

AGENCY: National Park Service, Interior.

ACTION: Notice.

Notice is hereby given in accordance with provisions of the Native American Graves Protection and Repatriation Act (NAGPRA), 43 CFR 10.9, of the completion of an inventory of human remains and associated funerary objects in the possession of the Phoebe A. Hearst Museum of Anthropology, University of California, Berkeley, Berkeley, CA.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

An assessment of the human remains and catalogue records and associated documents relevant to the human remains was made by Phoebe A. Hearst Museum professional staff in consultation with representatives of Big Lagoon Rancheria, California; Resighini Rancheria, California; Cher-Ae Heights Indian Community of the Trinidad Rancheria, California; and the Yurok Tribe of the Yurok Reservation, California.

In 1924, human remains representing at least one individual were recovered from site CA-Hum-NL-2, Humboldt County, CA, and donated to the Phoebe A. Hearst Museum of Anthropology the same year by A. L. Kroeber. No known individual was identified. The one associated funerary object is a grooved stone sinker.

Based on consultation and geographic, linguistic, and archaeological evidence, including the presence of site-specific artifacts site CA-Hum-NL-2 has been identified as a Yurok site.

During the 1920s, human remains representing at least two individuals were removed from site CA-Hum-NL-4, Trinidad, Humboldt County, CA, and donated to the Phoebe A. Hearst Museum of Anthropology in 1931 by Dr. Herbert H. Stuart. No known individuals were identified. No associated funerary objects are present in the Phoebe A. Hearst Museum of Anthropology collections.

Based on consultation and geographic, linguistic, archaeological, and ethnographic evidence site CA-Hum-NL-4 has been identified as a Yurok site.

During the 1920s, human remains representing at least three individuals were recovered from site CA-Hum-NL-9, Big Lagoon, Humboldt County, CA, and donated to the Phoebe A. Hearst Museum of Anthropology in 1931 by Dr. Herbert H. Stuart. No known individuals were identified. No associated funerary objects are present in the Phoebe A. Hearst Museum of Anthropology collections.

Based on consultation and geographic, linguistic, archaeological, historic, and ethnographic evidence site CA-Hum-NL-9 has been identified as a Yurok site.

Based on the above-mentioned information, officials of the Phoebe A. Hearst Museum of Anthropology have determined that, pursuant to 43 CFR 10.2 (d)(1), the human remains listed above represent the physical remains of at least six individuals of Native American ancestry. Officials of the Phoebe A. Hearst Museum of Anthropology also have determined that, pursuant to 43 CFR 10.2 (d)(2), the one object listed above is reasonably believed to have been placed with or near individual human remains at the time of death or later as part of the death rite or ceremony. Lastly, officials of the Phoebe A. Hearst Museum of Anthropology also have determined that, pursuant to 43 CFR 10.2 (e), there is a relationship of shared group identity that can be reasonably traced between these Native American human remains and associated funerary objects and the Big Lagoon Rancheria, California; Resighini Rancheria, California; Cher-Ae Heights Indian Community of the Trinidad Rancheria, California; and the Yurok Tribe of the Yurok Reservation, California.

This notice has been sent to officials of the Big Lagoon Rancheria, California; Resighini Rancheria, California; Cher-Ae Heights Indian Community of the Trinidad Rancheria, California; and the Yurok Tribe of the Yurok Reservation, California. Representatives of any other Indian tribe that believes itself to be culturally affiliated with these human remains and the associated funerary object should contact C. Richard Hitchcock, NAGPRA Coordinator, Phoebe A. Hearst Museum of Anthropology, University of California, Berkeley, CA 94720, telephone (510) 643-7884, before February 11, 2002. Repatriation of the human remains and associated funerary objects to the Big Lagoon Rancheria, California; Resighini Rancheria, California; Cher-Ae Heights Indian Community of the Trinidad Rancheria, California; and the Yurok Tribe of the Yurok Reservation, California may begin after that date if no additional claimants come forward.

Dated: December 13, 2001.
Robert Stearns,
Program Manager, National NAGPRA Program.

[FR Doc. 02-735 Filed 01-10-02; 8:45 am]

BILLING CODE 4310-70-S